DEPARTMENT OF LABOR

Employee Benefits Security Administration

Advisory Council on Employee Welfare and Pension Benefit Plans Working Group on Participant Benefit Statements; Notice of Meeting

Pursuant to the authority contained in section 512 of the Employee Retirement Income Security Act of 1974 (ERISA), 29 U.S.C. 1142, the Working Group assigned by the Advisory Council on Employee Welfare and Pension Benefit Plans to study the issue of participant benefit statements will hold an open public meeting on September 18, 2007.

The session will take place in Room N4437 A-C, U.S. Department of Labor, 200 Constitution Avenue, NW., Washington, DC 20210. The purpose of the open meeting, which will run from 9 a.m. to approximately 5 p.m., with a one hour break for lunch, is for Working Group members to hear testimony from invited witnesses. The Working Group is studying benefit statement requirements of the Pension Protection Act of 2006.

Organizations or members of the public wishing to submit a written statement pertaining to the topic may do so by submitting 25 copies on or before September 12, 2007 to Larry Good, Executive Secretary, ERISA Advisory Council, U.S. Department of Labor, Suite N-5623, 200 Constitution Avenue, NW., Washington, DC 20210. Statements also may be submitted electronically to good.larry@dol.gov. Statements received on or before September 12 will be included in the record of the meeting. Individuals or representatives of organizations wishing to address the Working Group should forward their requests to the Executive Secretary or telephone (202) 693-8668. Oral presentations will be limited to 20 minutes, time permitting, but an extended statement may be submitted for the record. Individuals with disabilities who need special accommodations should contact Larry Good by September 12 at the address indicated.

Signed at Washington, DC, this 23rd day of August, 2007.
Ivan Strasfeld,
Director, Office of Exemption Determinations, Employee Benefits Security Administration.

[FR Doc. E7-17053 Filed 8-28-07; 8:45 am]

BILLING CODE 4510-29-P